DEPARTMENT OF HEALTH AND HUMAN SERVICES

Centers for Medicare & Medicaid Services

42 CFR Parts 417, 422, and 423

[CMS-4144-CN]

RIN 0938-AQ00

Medicare Program; Proposed Changes to the Medicare Advantage and the Medicare Prescription Drug Benefit Programs for Contract Year 2012 and Other Proposed Changes; Correction

AGENCY: Centers for Medicare & Medicaid Services (CMS), HHS.

ACTION: Correction of proposed rule.

SUMMARY: This document corrects a technical error that appeared in the proposed rule entitled “Medicare Program; Proposed Changes to the Medicare Advantage and the Medicare Prescription Drug Benefit Programs for Contract Year 2012 and Other Proposed Changes” which was filed for public inspection on November 10, 2010.

FOR FURTHER INFORMATION CONTACT: Sabrina Ahmed, (410) 786-7499.

SUPPLEMENTARY INFORMATION:

I. Background

In FR Doc. 2010-28774 filed November 10, 2010, there was a technical error that is identified and corrected in the Correction of Errors section below.

II. Summary of Errors

In the DATES section, we inadvertently requested that the Office of the Federal Register base the comment period closing date on the date the proposed rule will appear in the Federal Register instead of the date of filing for public inspection. Therefore, in section III. of this correction notice, we correct this error by inserting the date that the comment period closes, which is January 11, 2011.

III. Waiver of 60-Day Comment Period

We ordinarily permit a 60-day comment period on notices of proposed rulemaking in the Federal Register, as provided in section 1871(b)(1) of the Act. The change made by this correction notice does not constitute agency rulemaking, and therefore the 60-day comment period does not apply. This correction notice merely corrects a technical error in the proposed rule and does not make substantive changes to the proposed rule that would require additional time on which to comment. Instead, this correction notice is intended to ensure the accuracy of the proposed rule.

IV. Correction of Errors

In FR Doc. 2010-28774 filed November 10, 2010, make the following correction:

1. In the DATES section, the phrase “[OFR—insert date 60 days after date of publication in the Federal Register]” is corrected to read “January 11, 2011.”

(Catalog of Federal Domestic Assistance Program No. 93.773, Medicare—Hospital Insurance; and Program No. 93.774, Medicare—Supplementary Medical Insurance Program)

Dated: November 12, 2010.
Barbara J. Holland,
Deputy Executive Secretary to the Department.

[FR Doc. 2010-28997 Filed 11-12-10; 4:15 pm]

BILLING CODE 4120-01-P